DEPARTMENT OF HEALTH AND HUMAN SERVICES

Centers for Disease Control and Prevention

Meeting of the Advisory Committee on Breast Cancer in Young Women

AGENCY: Centers for Disease Control and Prevention (CDC), Department of Health and Human Services (HHS).

ACTION: Notice of meeting.

SUMMARY: In accordance with the Federal Advisory Committee Act, the Centers for Disease Control and Prevention (CDC) announces the following meeting of the Advisory Committee on Breast Cancer in Young Women (ACBCYW). This meeting is open to the public, limited only by conference room space and web Conference lines (40 conference room and 60 web conference participant spaces available). Online registration is required.

DATES: The meeting will be held on September 13, 2024, from 8:30 a.m. to 4 p.m., EDT.

ADDRESSES: 4770 Buford Highway, Atlanta, Georgia 30341, Building 106, Room 1B. All ACBCYW Meeting participants must register for the meeting online at least 5 business days in advance at https://www.cdc.gov/breast-cancer/php/advisory-committee/index.html. Please complete all the required fields and submit your registration no later than September 6, 2024. Registered participants will receive access instructions before the meeting. All visitors are required to present a valid form of picture identification issued by a state, federal or international government. As required by the Federal Property Management Regulations, all persons entering in or on Federal controlled property and their packages, briefcases, and other containers in their immediate possession are subject to being x-rayed and inspected. Federal law prohibits the knowing possession or the causing to be present of firearms, explosives and other dangerous weapons and illegal substances. Time will be available for public comment. The public is welcome to submit written comments in advance of the meeting. Comments should be submitted in writing by email to acbcyw@cdc.gov. The deadline for receipt is September 10, 2024.

FOR FURTHER INFORMATION CONTACT: Kimberly E. Smith, M.B.A., M.H.A., Designated Federal Officer, Advisory Committee on Breast Cancer in Young Women, National Center for Chronic Disease Prevention and Health Promotion, Centers for Disease Control and Prevention, 4770 Buford Highway NE, Mailstop S107-4, Atlanta, Georgia 30341. Telephone: (404) 498-0073; Fax: (770) 488-4760; Email: acbcyw@cdc.gov.

SUPPLEMENTARY INFORMATION:

Purpose: The Advisory Committee provides advice and guidance to the Secretary, HHS; the Assistant Secretary for Health; and the Director, CDC, regarding the formative research, development, implementation, and evaluation of evidence-based activities designed to prevent breast cancer (particularly among those at heightened risk) and promote the early detection and support of young women who develop the disease. The advice provided by the Advisory Committee will assist in ensuring scientific quality, timeliness, utility, and dissemination of credible appropriate messages and resource materials.

Matters to be Considered: The agenda will include discussions on current topics related to breast cancer in young women. These will include Mental/Behavioral Health, Sexual Health, Genetics and Genomics, and Provider Engagement. Agenda items are subject to change as priorities dictate.

The Director, Office of Strategic Business Initiatives, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Office of Strategic Business Initiatives, Office of the Chief Operating Officer, Centers for Disease Control and Prevention.

[FR Doc. 2024-17219 Filed 8-2-24; 8:45 am]

BILLING CODE 4163-18-P